NATIONAL CREDIT UNION ADMINISTRATION

Sunshine Act; Notice of Agency Meeting

TIME AND DATE: 10:00 a.m., Thursday, March 14, 2013.

PLACE: Board Room, 7th Floor, Room 7047, 1775 Duke Street (All visitors must use Diagonal Road Entrance), Alexandria, VA 22314-3428.

STATUS: Open.

MATTERS TO BE CONSIDERED:

1. NCUA's Rules and Regulations, Federal Credit Union Ownership of Fixed Assets.

2. Request from Cinfed Federal Credit Union to Convert to a Community Charter.

RECESS: 10:30 a.m.

TIME AND DATE: 10:45 a.m., Thursday, March 14, 2013.

PLACE: Board Room, 7th Floor, Room 7047, 1775 Duke Street, Alexandria, VA 22314-3428.

STATUS: Closed.

MATTERS TO BE CONSIDERED:

1. Purchase and Assumption Request provisions of NCUA's Rules and Regulations. Closed pursuant to exemption (8).

2. Merger Request provisions of NCUA's Rules and Regulations. Closed pursuant to exemption (8).

3. Requests under Section 205(d) of the Federal Credit Union Act (2). Closed pursuant to Exemption (6).

FOR FURTHER INFORMATION CONTACT: Mary Rupp, Secretary of the Board, Telephone: 703-518-6304.

Mary Rupp,
Board Secretary.

[FR Doc. 2013-05692 Filed 3-8-13; 11:15 am]

BILLING CODE 7535-01-P